DEPARTMENT OF THE INTERIOR

National Park Service

30 Day Notice of Request for Extension of a Currently Approved Information Collection

AGENCY: National Park Service, Department of the Interior.

ACTION: Notice of submission to OMB and request for comments.

SUMMARY: In accordance with the Paperwork Reduction Act of 1995 (Public Law 104-13), this notice announces the National Park Service's (NPS) intention to request an extension for a currently approved information collection request used in the Historic Preservation Tax Incentives Program administered by the NPS.

The Primary Purpose of the Information Collection Request: Section 47 of the Internal Revenue Code requires that the Secretary of the Interior certify to the Secretary of the Treasury upon application by owners of historic properties for Federal tax benefits, (a) the historic character of the property, and (b) that the rehabilitation work is consistent with that historic character. The National Park Service administers the program in partnership with the Internal Revenue Service. The Historic Preservation Certification Application is used by the National Park Service to evaluate the condition and historic significance of buildings undergoing rehabilitation for continued use, and to evaluate whether the rehabilitation work meets the Secretary of the Interior's Standards for Rehabilitation.

DATES: Comments on this notice must be received by May 8, 2000 to be assured of consideration.

The bureau solicits public comments as to:

1. Whether the collection of information is necessary for the proper performance of the functions of the bureau, including whether the information will have practical utility;

2. The accuracy of the bureau's estimate of the burden of the collection of information, including the validity of the methodology and assumptions used;

3. The quality, utility, and clarity of the information to be collected; and,

4. How to minimize the burden of the collection of information on those who are to respond, including the use of appropriate automated electronic, mechanical, or other forms of information technology.

ADDRESSES: Send comments to: Desk Officer, Interior Department, Office of Information and Regulatory Affairs, Office of Management and Budget, Washington, DC 20503. Also send a copy of your comments to: Michael Auer, National Park Service, 1849 C St., NW, Room NC 200, Washington, DC 20240; 202-343-9578.

All comments will become a matter of public record. Copies of the proposed Information Collection Request can be obtained from Michael J. Auer, Ph.D., National Park Service, 1849 C St., NW, Room NC 200, Washington, DC 20240.

FOR FURTHER INFORMATION CONTACT: Michael Auer, 202-343-9578.

SUPPLEMENTARY INFORMATION: 1. Title: Historic Preservation Certification Application.

2. Summary: Request for an extension for a currently approved information collection request used in the Historic Preservation Tax Incentives Program administered by the National Park Service.

3. Need for information and proposed use: To enable the Secretary of the Interior to make certifications to the Secretary of the Treasury concerning historic buildings undergoing rehabilitation for the purposes of a Federal income tax credit.

4. Respondents are owners of historic buildings, or qualified long-term lessees. The number of respondents is estimated to be 3,000 per year. The frequency of response is on occasion, as requested by owners of buildings (one response per respondent).

5. The total annual reporting and recordkeeping burden is estimated to be 7,500 hours.

6. Comments may be submitted to the Office of Management and Budget (OMB).

Dated: March 31, 2000.
Leonard E. Stowe,
Information Collection Clearance Officer.

[FR Doc. 00-8573 Filed 4-5-00; 8:45 am]

BILLING CODE 4310-70-P